DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Licensing Responsibilities and Enforcement.

OMB Control Number: 0694-0122.

Form Number(s): N/A.

Type of Request: Regular submission.

Burden Hours: 78,576.

Number of Respondents: 1,821,891.

Average Hours per Response: 5 seconds to 2 hours per response.

Needs and Uses: This information collection package supports nine various collections, notifications, reports, and information exchanges that are needed by the Office of Export Enforcement (BIS) and U.S. Customs Service to enforce the Export Administration Regulations and maintain the national security of the United States. Most of these activities do not involve submission of documents to BIS but instead involve exchange of documents among parties in the export transaction to ensure that each party understands its obligations under U.S. law. Others involve writing certain export control statements on shipping documents or reporting unforeseen changes in shipping and disposition of exported commodities.

Affected Public: Businesses and other for-profit organizations.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, Jasmeet_K._Seehra@omb.eop.gov, or fax number (202) 395-5167.

Dated: April 7, 2009.
Gwellnar Banks,
Management Analyst, Office of the Chief Information Officer.

[FR Doc. E9-8229 Filed 4-9-09; 8:45 am]

BILLING CODE 3510-33-P